DEPARTMENT OF TRANSPORTATION

Federal Railroad Administration

Petition for Waiver of Compliance

In accordance with Part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

National Railroad Passenger Corporation (Amtrak)

[Waiver Petition Docket Number FRA-2009-0022]

Amtrak seeks to modify the terms and conditions of a permanent waiver of compliance granted to operate TALGO trainsets in the Pacific Northwest, over the Cascades Service route between Vancouver, British Columbia, Canada, and Portland, Oregon, by adding General Electric (GE) P32-8 and P40/42 locomotives to this service.

Amtrak currently operates TALGO trainsets powered by General Motors Electromotive Division F59PH locomotives over BNSF trackage between Portland, OR, and Blaine, WA, at speeds up to 79 miles per hour and cant deficiency up to but not exceeding six inches. Amtrak lacks sufficient F59PH locomotives to provide effective service without interruption due to required inspection and repair cycles. Therefore, Amtrak is requesting permission from FRA to utilize GE P32-8 and P40/42 locomotives, which were static lean tested in 1991 and 1993 respectively, and meet the requirements of 49 CFR 213.57 Elevation in Curves for four inches cant deficiency. Also, based on the current unloading criteria specified in this section that no wheel of the equipment unloads to a value less than 60% of its static value, the static lean test results indicated a maximum safe cant deficiency operation of up to ten inches for the P40/42 locomotive and eight inches for the P32-8 locomotive. Further, Amtrak recently demonstrated and received approval for five inch cant deficiency operation of these GE locomotives on Amtrak's Northeast Corridor (NEC) and Harrisburg, PA, routes.

With FRA's approval, Amtrak is proposing to demonstrate the suitability and safety of using these GE locomotives with TALGO trainsets by conducting two end-to-end route tests between Portland, OR, and Blaine, WA. This will confirm correspondence with the dynamic test results obtained during the recent NEC dynamic testing of GE locomotives, as well as demonstrate the safe dynamic performance of these locomotives at speeds in curves that generate up to six inches cant deficiency. Amtrak has submitted a Test Plan for FRA approval. The dynamic test includes use of accelerometers placed on the carbody and trucks of each GE locomotive in order to continuously measure the steady-state and dynamic response of the locomotives to the track alignment and track geometry deviations over the entire route at timetable speeds.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0022) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on April 3, 2009.
Grady C. Cothen, Jr.,
Deputy Associate Administrator for Safety Standards and Program Development.

[FR Doc. E9-8180 Filed 4-9-09; 8:45 am]

BILLING CODE 4910-06-P